DEPARTMENT OF JUSTICE

[OMB Number 1105-NEW]

Agency Information Collection Activities; Proposed Collection; Comments Requested: Claims of U.S. Nationals for Compensation for Serious Personal Injuries Against the Government of Iraq and Referred to the Foreign Claims Settlement Commission by the Department of State Legal Adviser

ACTION: 60-Day notice.

The Department of Justice, Foreign Claims Settlement Commission (Commission), will be submitting the following information collection request to the Office of Management and Budget (OMB) for review and clearance in accordance with the procedures of the Paperwork Reduction Act of 1995. OMB approval has been requested by January 15, 2013. The proposed information collection is published to obtain comments from the public and affected agencies. Comments should be directed to OMB, Office of Information and Regulatory Affairs, Attention: Department of Justice Desk Officer, Washington, DC 20503. Comments are encouraged and will be accepted for 60 days until February 5, 2013.

All comments and suggestions, or questions regarding additional information, including obtaining a copy of the proposed information collection instrument with instructions, should be directed to Judith Lock, Foreign Claims Settlement Commission, Department of Justice, 600 E Street NW., Suite 6002, Washington DC 20579, or by facsimile (202) 616-6993.

Written comments and suggestions from the public and affected agencies concerning the proposed collection of information are encouraged. Comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection

(1) Type of information collection: New Collection.

(2) The title of the form/collection: Claims of U.S. Nationals Against Iraq.

(3) The agency form number, if any, and the applicable component of the department sponsoring the collection: Form Number: FCSC 1-12. Foreign Claims Settlement Commission, Department of Justice.

(4) Affected public who will be asked or required to respond, as well as a brief abstract: Primary: Individuals. Other: None. Information will be used as a basis for the Commission to receive, examine, adjudicate and render final decisions with respect to claims for compensation of U.S. nationals, under the U.S.-Iraq Claims Settlement Agreement and the November 14, 2012 referral to the Commission by the Department of State Legal Adviser, for serious personal injuries, which may include instances of serious physical, mental, or emotional injury arising from sexual assault, coercive interrogation, mock execution, or aggravated physical assault. Certified awards will be payable by the Department of Treasury out of funds provided.

(5) An estimate of the total number of respondents and the amount of time estimated for an average respondent to respond/reply: It is estimated that 20 individual respondents will complete the application, and that the amount of time estimated for an average respondent to reply is approximately two hours each.

(6) An estimate of the total public burden (in hours) associated with the collection: The estimated total annual public burden associated with this application is 40 hours.

If additional information is required contact: Jerri Murray, Department Clearance Officer, United States Department of Justice, Justice Management Division, Policy and Planning Staff, Two Constitution Square, 145 N Street NE., Room 3W-1407B, Washington, DC 20530.

Dated: December 3, 2012.
Jerri Murray,
Department Clearance Officer for PRA, U.S. Department of Justice.

[FR Doc. 2012-29602 Filed 12-6-12; 8:45 am]

BILLING CODE 4410-BA-P